NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on November 1-3, 2007, 11545 Rockville Pike, Rockville, Maryland. The date of this meeting was previously published in the Federal Register on Wednesday, November 15, 2006 (71 FR 66561).

Thursday, November 1, 2007, Conference Room T-2b3, Two White Flint North, Rockville, Maryland

8:30 a.m.-8:35 a.m.: Opening Remarks by the ACRS Chairman (Open)—The ACRS Chairman will make opening remarks regarding the conduct of the meeting.

8:35 a.m.-10:30 a.m.: Extended Power Uprate Application for the Susquehanna Nuclear Power Plant (Open/Closed)—The Committee will hear presentations by and hold discussions with representatives of the NRC staff and the Pennsylvania Power & Light Company regarding the Extended Power Uprate Application for the Susquehanna Nuclear Power Plant, and the associated NRC staff's Safety Evaluation.

Note: A portion of this session may be closed to protect information that is proprietary to General Electric, AREVA, and their contractors pursuant to 5 U.S.C. 552b (c) (4).

]

10:45 a.m.-11:45 a.m.: Meeting with Commissioner Peter B. Lyons (Open)—The Committee will hold a discussion with Commissioner Lyons on items of mutual interest.

12:45 p.m.-2:45 p.m.: Vogtle Early Site Permit (ESP) Application (Open)—The Committee will hear presentations by and hold discussions with representatives of the NRC staff and Southern Nuclear Operating Company regarding Vogtle ESP application, and the associated NRC staff's Safety Evaluation Report with Open Items.

3 p.m.-4 p.m.: Staff's Implementation of the Lessons Learned from the Review of ESP Applications (Open)—The Committee will hear presentations by and hold discussions with representatives of the NRC staff regarding the effectiveness and efficiency of the staff's implementation of the lessons learned from the review of ESP applications.

4:15 p.m.-6:15 p.m.: Assessment of the Robustness of New Nuclear Plants (Room T-10E8) (Closed)—The Committee will hear presentations by and hold discussions with representatives of the NRC staff regarding the assessment of the robustness of new nuclear plants.

Note: This session will be closed to protect information classified as National Security information as well as safeguards information pursuant to 5 U.S.C. 552b (c) (1) and (3).

]

6:30 p.m.-7:15 p.m.: Preparation of ACRS Reports (Open)—The Committee will discuss proposed ACRS reports.

Friday, November 2, 2007, Conference Room T-2b3, Two White Flint North, Rockville, Maryland

8:30 a.m.-8:35 a.m.: Opening Remarks by the ACRS Chairman (Open)—The ACRS Chairman will make opening remarks regarding the conduct of the meeting.

8:35 a.m.-10:30 a.m.: Selected Chapters of the SER Associated with the ESBWR Design Certification (Open/Closed)—The Committee will hear presentations by and hold discussions with representatives of the NRC staff and General Electric regarding selected chapters of the SER with Open Items associated with the ESBWR design certification.

Note: A portion of this session may be closed to protect information that is proprietary to General Electric and their contractors pursuant to 5 U.S.C. 552b (c) (4).

]

10:45 a.m.-11:30 a.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

11:30 a.m.-11:45 a.m.: Reconciliation of ACRS Comments and Recommendations (Open)—The Committee will discuss the responses from the NRC Executive Director for Operations to comments and recommendations included in recent ACRS reports and letters.

1 p.m.-3 p.m.: Draft ACRS Report on the NRC Safety Research Program (Open)—The Committee will discuss the draft ACRS report on the NRC Safety Research Program.

3:15 p.m.-7 p.m.: Preparation of ACRS Reports (Open)—The Committee will discuss proposed ACRS reports.

Saturday, November 3, 2007, Conference Room T-2b3, Two White Flint North, Rockville, Maryland

8:30 a.m.-1:30 p.m.: Preparation of ACRS Reports (Open)—The Committee will continue its discussion of proposed ACRS reports, as well as the draft ACRS report on the NRC Safety Research Program.

1:30 p.m.-2 p.m.: Miscellaneous (Open)—The Committee will discuss matters related to the conduct of Committee activities and matters and specific issues that were not completed during previous meetings, as time and availability of information permit.

Procedures for the conduct of and participation in ACRS meetings were published in the Federal Register on September 26, 2007 (72 FR 54695). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

In accordance with Subsection 10(d) Public Law 92-463, I have determined that it may be necessary to close portions of this meeting noted above to discuss and protect information classified as proprietary to General Electric, AREVA, and their contractors pursuant to 5 U.S.C 552b (c) (4) and National Security, as well as Safeguards information pursuant to 5 U.S.C. 552b (c) (1) and (3).

Further information regarding topics to be discussed, whether the meeting has been canceled or rescheduled, as well as the Chairman's ruling on requests for the opportunity to present oral statements and the time allotted therefor can be obtained by contacting Mr. Giriga S. Shukla, Cognizant ACRS staff (301-415-8439), between 7:30 a.m. and 4 p.m., (ET). ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Video teleconferencing service is available for observing open sessions of ACRS meetings. Those wishing to use this service for observing ACRS meetings should contact Mr. Theron Brown, ACRS Audio Visual Technician (301-415-8066), between 7:30 a.m.-and 3:45 p.m., (ET), at least 10 days before the meeting to ensure the availability of this service. Individuals or organizations requesting this service will be responsible for telephone line charges and for providing the equipment and facilities that they use to establish the video teleconferencing link. The availability of video teleconferencing services is not guaranteed.

The ACRS meeting dates for Calendar Year 2008 are provided below:

ACRS Meeting No. | Meeting dates
— | January 2008 (No Meeting).
549 | February 7-9, 2008.
550 | March 6-8, 2008.
551 | April 3-5, 2008.
552 | May 8-10, 2008.
553 | June 4-6, 2008 (Wed—Fri).
554 | July 9-11, 2008 (Wed—Fri).
— | August (No Meeting).
555 | September 4-6, 2008.
556 | October 2-4, 2008.
557 | November 6-8, 2008.
558 | December 4-6, 2008.

Dated: October 16, 2007.
Andrew L. Bates,
Advisory Committee Management Officer.

[FR Doc. E7-20773 Filed 10-19-07; 8:45 am]

BILLING CODE 7590-01-P